DEPARTMENT OF COMMERCE

INTERNATIONAL TRADE ADMINISTRATION

[A-570-827]

Certain Cased Pencils from the People's Republic of China: Extension of Time Limit for Preliminary Results of the Antidumping Duty Administrative Review

AGENCY: Import Administration, International Trade Administration, Department of Commerce.

EFFECTIVE DATE: December 22, 2008

FOR FURTHER INFORMATION CONTACT: Alexander Montoro at (202) 482-0238 or Shane Subler at (202) 482-0189; AD/CVD Operations, Office 1, Import Administration, International Trade Administration, U.S. Department of Commerce, 14th Street and Constitution Avenue, NW, Washington, DC 20230.

SUPPLEMENTARY INFORMATION:

Background

On January 28, 2008, the Department published a notice of initiation of administrative review of the antidumping duty order on certain cased pencils from the People's Republic of China, covering the period December 1, 2006 through November 30, 2007. See Initiation of Antidumping and Countervailing Duty Administrative Reviews and Request for Revocation in Part, 73 FR 4829 (January 28, 2008). The current deadline for the preliminary results of this administrative review is December 22, 2008.¹

¹ On August 25, 2008, we extended the preliminary results deadline from September 2, 2008 to December 22, 2008. See Certain Cased Pencils from the People's Republic of China: Extension of Time Limit for Preliminary Results of the Antidumping Duty Administrative Review, 73 FR 49993 (August 25, 2008).

Statutory Time Limits

Section 751(a)(3)(A) of the Tariff Act of 1930, as amended (“the Act”), requires the Department of Commerce (“the Department”) to issue the preliminary results of an administrative review within 245 days after the last day of the anniversary month of an order for which a review is requested. If it is not practicable to complete the review within the time period, section 751(a)(3)(A) of the Act allows the Department to extend this deadline to a maximum of 365 days.

Extension of Time Limit for Preliminary Results

The Department requires additional time to review and analyze the responses in this administrative review. Moreover, the Department requires additional time to analyze complex issues related to surrogate value selections. Because the Department requires additional time to analyze the information, it is not practicable to complete this review within the anticipated time limit (i.e. December 22, 2008). Therefore, the Department is extending the time limit for completion of the preliminary results by an additional eight days (for a total extension of 120 days) to not later than December 30, 2008, in accordance with section 751(a)(3)(A) of the Act.

We are issuing this notice in accordance with sections 751(a)(3)(A) of the Act.

Dated: December 22, 2008.
Stephen Claeys,
Deputy Assistant Secretary for Antidumping and Countervailing Duty Operations.

[FR Doc. E8-31174 Filed 12-30-08; 8:45 am]

BILLING CODE 3510-DS-S